COMMISSION ON CIVIL RIGHTS

Agenda and Notice of Public Meeting of the District of Columbia Advisory Committee

Notice is hereby given, pursuant to the provisions of the rules and regulations of the U.S. Commission on Civil Rights (Commission), and the Federal Advisory Committee Act (FACA), that a planning meeting of the District of Columbia Advisory Committee to the Commission will convene at 12 p.m. and adjourn at 1 p.m. on Wednesday, August 6, 2008, at the Heritage Foundation, 214 Massachusetts Avenue, NE., Washington, DC 20002. The purpose of the meeting is to plan for a briefing on education issues in the District of Columbia.

Members of the public are entitled to submit written comments; the comments must be received in the regional office by Friday, September 5, 2008. The address is Eastern Regional Office, 624 Ninth Street, NW., Suite 740, Washington, DC 20425. Persons wishing to email their comments or to present their comments verbally at the meeting, or who desire additional information should contact Alfreda Greene, Secretary, at 202-376-7533, or by e-mail: agreene@usccr.gov.

Hearing-impaired persons who will attend the meeting and require the services of a sign language interpreter should contact the Regional Office at least ten (10) working days before the scheduled date of the meeting.

Records generated from this meeting may be inspected and reproduced at the Eastern Regional Office, as they become available, both before and after the meeting. Persons interested in the work of this advisory committee are advised to go to the Commission's Web site, http://www.usccr.gov, or to contact the Eastern Regional Office at the above e-mail or street address.

The meeting will be conducted pursuant to the provisions of the rules and regulations of the Commission and FACA.

Dated in Washington, DC, July 16, 2008.
Christopher Byrnes,
Chief, Regional Programs Coordination Unit.

[FR Doc. E8-16635 FILED 7-18-08; 8:45 am]

BILLING CODE 6335-01-P